INTERNATIONAL TRADE COMMISSION

[USITC SE-09-014]

Government in the Sunshine Act Meeting Notice

Agency Holding the Meeting: United States International Trade Commission.

Time and Date: May 14, 2009 at 1:30 p.m.

Place: Room 101, 500 E Street SW., Washington, DC 20436, Telephone: (202) 205-2000.

Status: Open to the public.

Matters to be Considered: 1. Agenda for future meetings: None.

2. Minutes.

3. Ratification List.

4. Inv. Nos. 701-TA-462 and 731-TA-1156-1158 (Preliminary) (Polyethylene Retail Carrier Bags from Indonesia, Taiwan, and Vietnam)—briefing and vote. (The Commission is currently scheduled to transmit its determinations to the Secretary of Commerce on or before May 15, 2009; Commissioners' opinions are currently scheduled to be transmitted to the Secretary of Commerce on or before May 22, 2009.)

5. Outstanding action jackets: None.

In accordance with Commission policy, subject matter listed above, not disposed of at the scheduled meeting, may be carried over to the agenda of the following meeting.

By order of the Commission.
Issued: May 7, 2009.
William R. Bishop,
Hearings and Meetings Coordinator.

[FR Doc. E9-11043 Filed 5-7-09; 4:15 pm]

BILLING CODE 7020-02-P